SECURITIES AND EXCHANGE COMMISSION

[Release No. 34-88361; SR-NYSE-2019-68]

Self-Regulatory Organizations; New York Stock Exchange LLC; Notice of Withdrawal of a Proposed Rule Change To Amend Its Rules To Add New Rule 7.19 (Pre-Trade Risk Controls)

March 11, 2020.

On November 27, 2019, New York Stock Exchange LLC (“NYSE” or “Exchange”) filed with the Securities and Exchange Commission (“Commission”), pursuant to Section 19(b)(1) of the Securities Exchange Act of 1934 (“Act”) ¹ and Rule 19b-4 thereunder,² a proposed rule change to adopt NYSE Rule 7.19 to provide for optional pre-trade risk controls. The proposed rule change was published for comment in the Federal Register on December 17, 2019.³ The Commission has received two comment letters.⁴ On January 29, 2020, the Commission designated a longer period within which to approve the proposed rule change, disapprove the proposed rule change, or institute proceedings to determine whether to approve or disapprove the proposed rule change.⁵

¹ 15 U.S.C. 78s(b)(1).

² 17 CFR 240.19b-4.

³ See Securities Exchange Act Release No. 87715 (Dec. 11, 2019), 84 FR 68995 (Dec. 17, 2019).

⁴ See Letter, dated January 7, 2020, to Vanessa Countryman, Secretary, Commission, from Murray Pozmanter, Managing Director, Head of Clearing Agency Services and GOCS, DTCC. See also Letter, dated January 7, 2020, to Vanessa Countryman, Secretary, Commission, from Tom Barrett, Managing Director, Goldman Sachs & Co. LLC.

⁵ See Securities Exchange Act Release No. 88080, 85 FR 6254 (February 4, 2020).

On March 10, 2020, the Exchange withdrew the proposed rule change (SR-NYSE-2019-68).

For the Commission, by the Division of Trading and Markets, pursuant to delegated authority.⁶
⁶ 17 CFR 200.30-3(a)(12).
J. Matthew DeLesDernier,
Assistant Secretary.

[FR Doc. 2020-05373 Filed 3-16-20; 8:45 am]

BILLING CODE 8011-01-P